DEPARTMENT OF ENERGY

Federal Energy Regulatory Commission

[Docket No. EL05-141-000]

Southern Montana Electric Generation & Transmission Cooperative, Inc., Complainant v. NorthWestern Corporation, NorthWestern Energy, and Montana First Megawatts I, LLC, Respondents; Notice of Complaint

August 17, 2005.

Take notice that on August 12, 2005, Southern Montana Electric Generation & Transmission Cooperative, Inc. (SME) filed a complaint with the Commission, pursuant to section 206 of the Federal Power Act, against NorthWestern Corporation, d/b/a NorthWestern Energy (NEW) and Montana First Megawatts I, LLC (MMI). The complaint asserts that NEW has not complied with the Commission's Large Generator Interconnection Policy in the management of its Generation Interconnection Queue with respect to its dealings with its affiliate MMI. SME requests that the Commission order NEW to process the Interconnection Request for SME's Highwood Generating Station as senior to the subordinated queue ranking which should have been assigned to MMI.

SME states that copies of the complaint have been served on NEW and MMI.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on September 1, 2005.

Magalie R. Salas,
Secretary.

[FR Doc. E5-4606 Filed 8-22-05; 8:45 am]

BILLING CODE 6717-01-P